DEPARTMENT OF TRANSPORTATION

Pipeline and Hazardous Materials Safety Administration

Office of Hazardous Materials Safety; Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (June to September 2007). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on October 10, 2007.
Delmer F. Billings,
Director, Office of Hazardous Materials Special Permits and Approvals.

S.P. No. | S.P. No. | Applicant | Regulation(s) | Nature of special permit thereof
MODIFICATION SPECIAL PERMIT GRANTED
11666-M |  | Alcoa, Inc., Pittsburgh, PA | 49 CFR 173.240(b) | To modify the special permit to authorize the transportation of graphite products, as a Class 9 material, in non-UN standard bulk packaging strapped to wooden pallets on flat railcars.
12643-M | RSPA-9066 | Northrop Grumman, Space Technology, Redondo Beach, CA | 49 CFR 173.302 and 175.3 | To modify the special permit to authorize an increase in design volume for the pulse tube cooler up to 980 cc water capacity when shipped inside a strong, foam-filled shipping container.
12306-M | RSPA-5956 | Griffin Pipe Products Co., Lynchburg, VA | 49 CFR part 172, subparts C, F | To modify the special permit to authorize additional Class 3 hazardous materials.
14287-M | PHMSA-23247 | Troxler Electronic Laboratories, Inc., Research Triangle Park, NC | 49 CFR 173.431 | To modify the special permit to authorize cargo vessel as an additional mode of transportation.
13179-M | RSPA-14876 | Clean Harbors Environmental Services, Norwell, MA | 49 CFR 173.21; 173.308 | To modify the special permit to authorize the use of an alternative shipping description and hazard class for the Division 2.1 materials being transported to a disposal facility.
13598-M | RSPA-18706 | Jadoo, Folsom, CA | 49 CFR 173.301(a)(1), (d) and (f) | To modify the special permit to authorize passenger carrying aircraft as an additional mode of transportation.
7945-M |  | Pacific Scientific, Duarte, CA | 49 CFR 173.304(a)(1); 175.3 | To modify the special permit to authorize additional 2.2 hazardous materials in non-DOT specification cylinders.
13556-M | RSPA-17727 | Stericycle Lake Forest, IL | 49 CFR 172.301(a)(1); 172.301(c) | To modify the special permit to authorize transportation in commerce of a Division 6.2 material in packagings marked with an outdated proper shipping name.
12046-M | RSPA-3614 | University of Colorado at Denver Health Sciences Center, Aurora, CO | 49 CFR 171 to 178 | To modify the special permit to authorize additional academic/health institutions which are affiliated with UCDHSC and located within a forty mile radius of the Aurora Campus.
14250-M | PHMSA-25473 | Daniels Sharpsmart, Inc., Dandenong, Australia | 49 CFR 172.301(a)(1); 172.301(c) | To reissue the special permit originally issued on an emergency basis for the transportation in commerce of a Division 6.2 material in packagings marked with an unauthorized proper shipping name.
12030-M | RSPA-3389 | East Penn Manufacturing Company, Inc., Lyon Station, P A | 49 CFR 173.159(h) | To modify the special permit to authorize cargo vessel and cargo air as approved modes of transportation.
12084-M | RSPA-3941 | Honeywell International, Inc., Morristown, NJ | 49 CFR 180.209 | To modify the special permit to authorize the transportation in commerce of additional Division 2.2 gases in DOT 4B, 4BA and 4BW cylinders.
12207-M | RSPA-5047 | EMD Chemicals, Inc., Cincinnati, OH | 49 CFR 171.1(a)(1); 172.200(a); 172.302(c) | To modify the special permit to increase the size of the containers from 250 gallons to 331 gallons and to increase the quantity allowed on a pallet from 24 to 35.
12283-M | RSPA-5767 | Interstate Battery of Alaska, Anchorage, AK | 49 CFR 173 .159(c)(1); 173.159(c) | To modify the special permit to authorize medium density polyethylene boxes as authorized packaging.
14333-M | PHMSA-24382 | The Columbiana Boiler Co., Columbiana, OH | 49 CFR 179.300-13(b) | To modify the special permit to authorize the transportation in commerce of additional Division 6.1, Class 8 and other hazardous materials authorized in DOT Specification 4BW cylinder in DOT Specification 110A500W tank car tanks.
14355-M | PHMSA-25012 | Honeywell International Inc., Morristown, NJ | 49 CFR 173.31(b)(3); 173.31(b)(4) | To reissue the special permit originally issued on an emergency basis for the transportation in commerce of nine DOT Specification 112 tank cars without head and thermal protection for use in transporting certain Division 2.2 material by extending the date for retrofitting beyond July 1, 2006.
11379-M |  | TR W Occupant Safety Systems, Washington, MI | 49 CFR 173.301(h), 173.302 | To modify the special permit for consistency with other air bag special permits.
11494-M |  | ARC Automotive, Inc. (Former Grantee: Atlantic Research Corp. Automotive Products Group), Knoxville, TN | 49 CFR 173.301(h); 173.302; 173.306(d)(3) | To modify the special permit for consistency with other air bag special permits.
11506-M |  | Autoliv ASP, Inc., Ogden, UT | 49 CFR 173.301(h); 173.302 | To modify the special permit for consistency with other air bag special permits.
11650-M |  | Autoliv ASP, Inc., Ogden, UT | 49 CFR 173.301; 173.302; 178.65-9 | To modify the special permit for consistency with other air bag special permits.
11777-M | RSPA-15902 | Autoliv ASP, Inc., Ogden, UT | 49 CFR 173.301(h); 173.302 | To modify the special permit for consistency with other air bag special permits.
11993-M | RSPA-3100 | Key Safety Systems, Inc. (formerly BREED Tech.) Lakeland, FL | 49 CFR 173.301(a)(1); 173.302a | To modify the special permit for consistency with other air bag special permits.
12122-M | RSPA-4313 | ARC Automotive, Inc., Knoxville, TN | 49 CFR 173.301(h); 173.302; 173.306(d)(3) | To modify the special permit for consistency with other air bag special permits.
12844-M | RSPA-10753 | Delphi Corporation, Vandalia, OH | 49 CFR 173.301(a)(1); 173.302a(a)(1); 175.3 | To modify the special permit for consistency with other air bag special permits.
13270-M | RSPA-16489 | Takata Corporation Minato-Ku Tokyo, 106-8510 | 49 CFR 173.301(a); 173.302(a); 175.3 | To modify the special permit for consistency with other air bag special permits.
14152-M | PHMSA-20467 | Saes Pure Gas, Inc., San Luis Obispo, CA | 49 CFR 173.187 | To modify the special permit to authorize a change in the minimum and maximum pressures authorized in a non-DOT specification packaging for transporting certain quantities of metal catalyst, classed as Division 4.2.
10019-M |  | Structural Composites Industries, Pomona, CA | 49 CFR 173.302(a)(1); 175.3 | To modify the special permit to change the retest period from 3 to 5 years for non-DOT specification fiber reinforced plastic full composite cylinders used for the transportation of Division 2.2 materials.
6610-M |  | Degussa Initiators, LLC, Elyria, OH | 49 CFR 173.225(e) | To modify the special permit to authorize the transportation in commerce of an additional Division 5.2 Type F material.
10143-M |  | Eurocom, Inc., Irving, TX | 49 CFR 173.306(a); 178.33a | To modify the exemption to authorize the transportation of additional Division 2.2 materials in a non-refillable non-DOT specification inside metal container.
6530-M |  | Air Products & Chemicals, Inc., Allentown, PA | 49 CFR 173.302(c) | To modify the special permit to authorize an increase in the maximum age of certain DOT Specification 3A, 3AA, 3AX or 3AAX steel cylinders and authorize cargo vessel as a mode of transportation.
11380-M |  | Baker Atlas (a division of Baker Hughes, Inc.), Houston, TX | 49 CFR 173.34(d); 178.37-5; 178.37-13; 178.37-15 | To modify the special permit to authorize a new non-DOT specification tank assembly design.
14232-M | PHMSA-22248 | Luxfer Gas Cylinders—Composite Cylinder Division, Riverside, CA | 49 CFR 173.302a(a), 173.304a(a), and 180.205 | To modify the special permit to authorize an increase in service life to 30 years for certain carbon composite cylinders for transporting certain Division 2.1 and 2.2 gases.
10590-M |  | ITW/Sexton, Decatur, AL | 49 CFR 173.304(d)(3)(ii); 178.33 | To modify the special permit to authorize the transportation in commerce of certain Division 2.1 gases in non-DOT specification cylinder with a smaller diameter and wall thickness than currently authorized.
12124-M | RSPA-4309 | TOTAL Petrochemicals USA Inc., Pasadena, TX | 49 CFR 173.242; 178.245-1(c); 178.245-1(d)(4) | To modify the special permit to authorize a new non-DOT specification portable tank comparable to a specification DOT 51 portable tank equipped with vertical outlet and no internal shutoff valve for use in transporting Division 4.2 and 4.3 hazardous materials.
11917-M | RSPA-2741 | ITW Sexton, Decatur, AL | 49 CFR 173.304(a) | To modify the special permit to authorize a decrease in height of the non-DOT specification, non-refillable steel cylinders for the transportation of Division 2.1 materials.
11383-M |  | NASA, Washington, DC | 49 CFR 173.40(a) & (c); 173.158(b), (g), (h); 173.192(a); 173.336 | To modify the special permit to authorize additional trade names for UN1975.
13173-M | RSPA-14003 | Dynetek Industries LTD, Calgary, AB | 49 CFR 173.302(a); 175.3 | To modify the special permit to authorize the manufacture, mark, sale and use of DOT-CFFC specification fully wrapped carbon fiber reinforced aluminum lined cylinders mounted in protective enclosures for use in transporting Division 2.1 and 2.2 hazardous materials.
7235-M |  | Luxfer Gas Cylinders, Riverside, CA | 49 CFR 173.302(a)(1); 175.3 | To modify the special permit to authorize the transportation in commerce of an additional Division 2.2 gas in DOT-specification cylinders.
12574-M | RSPA-8318 | Luxfer Gas Cylinders, Riverside, CA | 49 CFR 172.302(c)(2), (3), (4), (5); Subpart F of Part 180 | To modify paragraph 7.b.(2) of the special permit to authorize requalification of a certain type of composite cylinder that is manufactured with permanent composite bands without removal of these bands. These specification cylinders are used for life saving equipment such as aircraft slides which are required to have such bands.
11859-M | RSPA-2310 | Carleton Technologies Inc., New York, NY | 49 CFR 178.65 | To modify the special permit to authorize the transportation of an additional Division 2.2 gas in a non-DOT specification pressure vessel.
14400-M | PHMSA-25820 | Ultra Electronics Precision Air Systems, Alexandria, VA | 49 CFR 172.301, 172.400, 173.306, 175.26 | To modify the special permit to correct what the company states was an editorial error and change the cylinder design operational life from 20 to 30 years.
12087-M | RSPA-3943 | LND, Inc., Oceanside, NY | 49 CFR 172.101, Co. 9; 173.306; 175.3 | To modify the special permit to authorize a piece of equipment as a strong outer packaging.
14392-M |  | Department of Defense, Ft. Eustis, VA | 49 CFR 172.101 Column (10B); 176.65, 176.83(a)(b)(g), 176.84(c)(2); 176.136; and 176.144(a) | To reissue the special permit originally issued on an emergency basis for the transportation in commerce of explosives by vessel in an alternative stowage configuration.
8915-M |  | Matheson Tri Gas, East Rutherford, NJ | 49 CFR 173.302a(a)(3); 173.301(d); 173.302a(a)(5) | To modify the special permit to authorize the transportation in commerce of additional Division 2.1 materials in DOT Specification 3A, 3AA, 3AX, 3AAX and 3T cylinders.
10656-M |  | Conf. of Radiation Control Program Directors, Inc., Frankfort, KY | 49 CFR 172.203(d); Part 172, Subparts C, D, E, F, G | To modify the special permit to authorize additional modifying symbols to be added to the postal designation for the state of origin of the shipment.
14466-M | PHMSA 27095 | Northern Air Cargo, Anchorage, AK | 49 CFR 172.101 Column (9B) | To reissue the special permit originally issued on an emergency basis for the transportation in commerce of certain Class 1 explosive materials which are forbidden for transportation by air, to be transported by cargo aircraft within the State of Alaska when other means of transportation are impracticable or not available.
12274-M | RSPA 5707 | Snow Peak, Inc, Clackamas, OR | 49 CFR 172.301, 173.302a(b)(2), (b)(3) and (b)(4); 180.205(c) and (g) and 180.209(a) | To modify the special permit to authorize larger non-DOT specification nonrefillable inside containers.
12571-M | RSPA-8315 | Air Products & Chemicals, Inc., Allentown, PA | 49 CFR 173.304(a)(2); 180.209 | To modify the special permit to authorize markings on the sides of the trailers rather than on each individual tube.
10885-M |  | U.S. Department of Energy, Washington, DC | 49 CFR 172.101 Col. 9(b); 172.204(c)(3); 173.27(b)(2); 173.27(f) Table 2; 175.30(a)(1); 173.27(b)(3) | To modify the special permit to authorize the transportation in commerce of additional hazardous materials and to provide relief from segregation by highway.
13167-M |  | ITT Industries Space Systems, LLC, Rochester, NY | 49 CFR 173.301(f); 173.304 | To modify the special permit to authorize an additional non-DOT specification packaging.
11993-M | RSPA-3100 | Key Safety Systems, Inc. (formerly BREED Tech.), Lakeland, FL | 49 CFR 173.301(a)(1); 173.302a | To modify the special permit to authorize a new design pressure vessel.
8627-M |  | Nalco Energy Services, L.P., Naperville, IL | 49 CFR 173.201; 173.202; 173.203 | To modify the special permit to authorize the transportation of Division 6.1, PG III materials in non-DOT specification portable tanks manifolded together within a frame and securely mounted on a truck chassis.
14415-M | PHMSA-27694 | Prometheus International, Inc., Commerce, CA | 49 CFR 173.21, 173.24, 173.27, 173.308, 175.5, 175.10, 175.30, 175.33 | To reissue the special permit originally issued on an emergency basis for the transportation in commerce of gas and liquid fueled Prometheus lighters in special travel containers in checked luggage in commercial passenger aircraft.
7835-M |  | Air Products & Chemicals, Inc., Allentown, PA | 49 CFR 177.848(d) | To modify the special permit to authorize the use of an E track system as an approved method for securing cylinders transporting various hazardous materials.
14382-M | PHMSA-25482 | BOC Gases, Murray Hill, NJ | 49 CFR 173.163, 180.209 | To modify the special permit to specifically define the filling capacity of certain DOT Specification 3BN nickle cylinders containing either tungsten hexafluoride and hydrogen fluoride.
14155-M | PHMSA-20606 | American Promotional Events, Inc., Florence, AL | 49 CFR 173.60; 178.516(b)(1) | To modify the special permit to authorize the transportation in commerce of certain fireworks in DOT specification single wall fiberboard boxes.
12122-M | RSPA-4313 | ARC Automotive, Inc., Knoxville, TN | 49 CFR 173.301(h); 173.302; 173.306(d)(3) | To modify the special permit to allow machine welding as certified per CGA phamphlet C-3 requirements, and to grant relief from the marking requirements of CFR 178.65(i)(2)(viii) due to the limited size for the cylinders.
7946-M |  | Imaging & Sensing Technology, Horseheads, NY | 49 CFR 173.306(6)(4); 175.3; 173.302 | To modify the special permit to authorize the transportation in commerce of additional Division 2.2 materials in non-DOT specification steel or aluminum pressure vessels contained in a radiation detector.
12005-M | RSPA-3233 | Pratt & Whitney Rocketdyne, Inc, Canoga Park, CA | 49 CFR 173.302 | To modify the special permit to authorize the transportation in commerce of a specially designed unit equipped with an unvented cylinder charged with xenon gas, Division 2.2, as part of a space station project.
10631-M |  | Dept of the Army—Surface Deployment and Distr. Command, Fort Eustis, VA | 49 CFR 173.243; 173.244 | To modify the special permit to authorize an additional shipping description and to update various paragraphs to coincide with the Hazardous Materials Regulations as currently written.
11156-M |  | Dyno Nobel, Inc., Salt Lake City, UT | 49 CFR 173.62; 173.212(b) | To modify the special permit to authorize cargo vessel as an authorized mode of transport.
13548-M | RSPA-17545 | Wiley Rein LLP, Washington, DC | 49 CFR 172.301(c), 173.159 | To modify the special permit to authorize the transportation in commerce of dry lead acid batteries without marking each package with the special permit number.
14396-M | PHMSA-25783 | Matheson Tri-Gas, Parsippany, NJ | 49 CFR 173.192(a) | To reissue the special permit originally issued on an emergency basis for the transportation in commerce of certain Division 2.3 gases in certain DOT specification and non-DOT specification cylinders not normally authorized for cargo vessel transportation, for export only.
10442-M |  | Pratt & Whitney Rocketdyne (PWR) (Former Grantee: United Technologies Corporation), San Jose, CA | 49 CFR 172.101; 173.65; 173.95; 173.154 | To modify the special permit to authorize the transportation in commerce of certain Division 1.1D and 1.3C waste materials in UN11G fiberboard boxes and UN11D plywood crates.
14393-M | PHMSA-25797 | Hamilton Sundstrand Windsor Locks, CT | 49 CFR 173.306(e)(iii), (iv), (v) and (vi); 173.307(a)(4)(iv) | To modify the special permit to authorize an increase in the maximum size of the cylinders integrated in the cooling unit.
11215-M |  | Orbital Sciences Corporation, Mojave, CA | 49 CFR Part 172, Subparts C, D; 172.101, Special Provision 109 | To modify the special permit to authorize the transportation in commerce of additional Division 1.4B, 1.4C explosives and Division 2.2 gases and to establish alternative landing sites.
14488-M |  | Sanofi Pasteur, Swiftwater, PA | 49 CFR 173.24(b)(1) | To reissue the special permit originally issued on an emergency basis for the transportation in commerce of an influenza vaccine in a custom stainless steel batch reactor at a constant pressure of 1-5 psig by use of a cylinder feeding air into the reactor.
12399-M | RSPA-6769 | BOC Gases, Murray Hill, NJ | 49 CFR 173.34(e)(1); 173.34(e)(3); 173.34(e)(4); 173.34(e)(8); 173.34(e)(14); 173.34(e)(15)(vi) | To modify the special permit to authorize removal of a test procedure for cylinders no longer in use by the applicant.
14476-M | PHMSA-27282 | BP Products North America, Inc. (formerly BP Amoco Oil), Texas City, TX | 49 CFR 173.202, 173.203, 173.312, and 173.213 | To reissue the special permit originally issued on an emergency basis for the transportation in commerce of certain hazardous materials in non-DOT specification heat exchanger pressure vessels and heat exchanger tube bundles.
14418-M | PHMSA-26182 | Department of Defense, Ft. Eustis, VA | 49 CFR 172.301; 172.400; 172.504(a) | To reissue the special permit originally issued on an emergency basis for the transportation in commerce of a water reactive material in special packging as Unitized Group Ration-Express (UGR-E) without being subject to Subchapter C of the Hazardous Materials Regulations.
5022-M |  | Alliant TechSystems Inc., Plymouth, MN | 49 CFR 174.101(L); 174.104(d); 174.112(a); 177.834(l)(1) | To modify the special permit to authorize the transportation in commerce of an additional Division 1.2 explosive.
14478-M | PHMSA-28182 | Pilkington North America, Inc., Northwood, OH | 49 CFR 178.603 | To reissue the special permit originally issued on an emergency basis to authorize the alternative testing of custom manufactured containers that will be used to transport flammable solids, organic, n.o.s. (ferrocene).
10043-M |  | Texas Instruments, Inc., Dallas, TX | 49 CFR 173.12 | To modify the special permit to authorize residual amounts of various hazardous materials, Class 3 liquids, Class 8 materials, Division 6.1 materials, Division 5.1 materials, and ORM-A or ORM-B, in inside packaging having a maximum capacity of five gallons overpacked in outside non-DOT polyethylene bins of 30 cubic-foot capacity.
11031-M | PHMSA-2007-28184 | Amfuel, Magnolia, AZ | 49 CFR 173.241 |
13199-M | PHMSA-14558 | Carrier Corporation, Houston, TX | 49 CFR 173.302(c); 173.306(e)(1) | To modify the special permit to authorize a manufactured rigid internal structure in place of permanently affixing to a trailer.
14313-M | PHMSA-23868 | Airgas, Inc., Radnor, PA | 49 CFR 173.302a(b)(2), (3), (4) and (5), 180.205, 180.209, 172.203(a), 172.301(c) | To authorize the use of ultrasonic inspection as an alternative retest method for certain DOT specification cylinders and certain cylinders manufactured under a DOT special permit.
11924-M | RSPA-2744 | Packgen, Inc. (Former Grantee: Wrangler Corporation), Auburn, ME | 49 CFR 173.12(b)(2)(i) | To modify the special permit to authorize an additional design type for composite intermediate bulk containers (IBCs) and a change to the additional IBC drop test requirements.
8554-M |  | Austin Powder Company, Cleveland, OH | 49 CFR 173.62; 173.240; 173.242; 173.93; 173.114a; 173.154; 176.83; 176.415; 177.848(d) | To modify the special permit to authorize the transportation in commerce of certain 1.5D explosives in the same vehicle with 5.1 oxidizers.
11947-M | RSPA-2901 | Patts Fabrication, Inc., Midland, TX | 49 CFR 173.202; 173.203; 173.241; 173.242 | To modify the special permit to authorize the transportation of additional Class 3 and 8 material in non-DOT specification containers.
12412-M | RSPA-6827 | Cincinnati Pool Management, Inc., West Chester, OH | 49 CFR 177.834(h); 172.203(a); 172.302(c) | To modify the special permit to allow for filling of an IBC without removing it from the motor vehicle on which it is transported while on private property.
7657-M |  | Welker Engineering Company, Sugar Land, TX | 49 CFR 173.302(a)(1); 173.304(a)(1); 173.304(b)(1); 175.3; 173.201; 173.202; 173.203 | To modify the special permit to authorize the transportation in commerce of additional Division 2.1 gases and to authorize a change in the material of construction.
11054-M |  | Welker Engineering Company, Sugar Land, TX | 49 CFR 178.36 Subpart C | To modify the special permit to authorize a change in the material of construction.
12531-M | RSPA-7865 | Worthington Cylinder Corporation, Columbus, OH | 49 CFR 173.302(a); 173.304(a); 173.304(d); 178.61(b); 178.61(f); 178.61(g); 178.61(i); 178.61(k) | To modify the special permit to authorize additional packing groups for already authorized hazardous materials.
11592-M |  | Amtrol Inc., West Warwick, RI | 49 CFR 173.306(g) | To modify the special permit to authorize the transportation in commerce of additional Division 2.2 gases.
8723-M |  | Dyno Nobel, Inc., Salt Lake City, UT | 49 CFR 172.101; 173.62; 173.242; 176.83; 177.848 | To modify the special permit to authorize the transportation in commerce of an additional Division 5.1 hazardous material.
8723-M |  | Austin Powder Company, Cleveland, OH | 49 CFR 172.101; 173.62; 173.242; 176.83; 177.848 | To modify the special permit to authorize the transportation in commerce of an additional Division 5.1 hazardous material.
13169-M | RSPA 13894 | Conocophillips Alaska, Inc., Anchorage, AK | 49 CFR 172.101(9B) | To modify the special permit to allow the transportation in commerce of certain Class 9 materials in UN 31A intermediate bulk containers which exceed quantity limitations when shipped by air.
14551-M | PHMSA-2007-28928 | Aerojet, Redmond, WA | 49 CFR 173.56 | To reissue the special permit originally issued on an emergency basis for the transportation in commerce of certain explosives as Dangerous Good in Apparatus, UN3363 instead of the EX classification of Cartridge, power device, UN0323.
14518-M |  | Alliant Techsystems, Inc. (ATK) Plymouth, MN | 49 CFR 173.62 | To reissue the special permit originally issued on an emergency basis for the transportation in commerce of Primers, cap type, UN0044 in non-DOT specification packaging when transported by private carrier for a distance of 10 miles or less.
14533-M |  | Skydance Helicopters of Northern Nevada, Inc., Minden, NV | 49 CFR 172.101 Column (9B) | To reissue the special permit originally issued on an emergency basis for the transportation in commerce of certain forbidden explosives by helicopter in remote areas of Utah, Oklahoma, Colorado and Wyoming to seismic drilling sites.
14530-M |  | Sandia National Laboratories Livermore, CA | 49 CFR 173.242 | To reissue the special permit originally issued on an emergency basis for the transportation in commerce of a PG III flammable liquid in alternative packaging (a Neutron Scatter Camera) by motor vehicle and cargo vessel.
14419-M |  | Voltaix, North Branch, NJ | 49 CFR 173.181(a) | To reissue the special permit originally issued on an emergency basis for the transportation in commerce of a Division 4.2 material in cylinders that are not authorized for that material.
13280-M | RSPA-16152 | Ovonic Hydrogen Systems, L.L.C., Rochester Hills, MI | 49 CFR 173.301(a)(1), (d) and (f) | To modify the special permit to authorize different pressure relief devices per CGA standards.
New Special Permit Granted
14382-N | PHMSA-25482 | BOC Gases, Murray Hill, NJ | 49 CFF 173.163, 180.209 | To authorize the transportation in commerce of certain DOT Specification 3BN nickle cylinders containing either tungsten hexafluoride and hydrogen fluoride that are used interchangably without requalifying the cylinder. (modes 1, 2, 3)
14383-N | PHMSA-25483 | Dairy and Power Cooperative, Genoa, WI | 49 CFR 173.416 | To authorize the one-time, one-way transportation in commerce of a Class 7 used reactor pressure vessel in alternative packaging by motor vehicle and rail. (modes 1, 2)
14384-N | PHMSA-25485 | Matheson Tri-Gas, Parsippany, NJ | 49 CFR 173.301(f)(1) | To authorize the transportation in commerce of Propylene in DOT 3AA or 3AL specification cylinders utilizing an unbacked pressure relief device. (modes 1, 2, 3, 4)
14387-N | PHMSA-25632 | Gayston Corporation, Springboro, OH | 49 CFR 173.302a, 173.304a, 180.209 | To authorize the manufacture, marking sale and use of non-DOT specification fully wrapped carbon fiber reinforced aluminum lined cylinders for shipment of certain Division 2.2 gases. (modes 1, 2, 3, 4, 5)
14388-N | PHMSA-25633 | ATK Thiokol, Inc., Brigham City, UT | 49 CFR 173.62 | To authorize the transportation in commerce of certain desensitized explosives in a non-DOT specification 40 cubic yard metal roll-off box by motor vehicle. (mode 1)
14393-N | PHMSA-25797 | Hamilton Sundstrand, Windsor Locks, CT | 49 CFR 173.306(e)(iii), (iv), (v) and (vi); 173.307(a)(4)(iv) | To authorize the transportation in commerce of new supplemental cooling unit refrigeration machines with alternative safety devices as a component part of an aircraft. (modes 1, 2, 3, 4)
14394-N | PHMSA-25799 | Boeing Company Kennedy Space, Center, FL | 49 CFR 173.302a | To authorize the transportation in commerce of Nitrogen Tank Assemblies by motor vehicle between the Kennedy Space Center and Cape Canaveral Air Force Station not subject to the packaging requirements of the Hazardous Materials Regulations. (mode 1)
14395-N | PHMSA-25782 | Britz Fertilizers, Inc., Fresno, CA | 49 CFR 172, 173, 177 | To authorize the transportation in commerce of a liquid soil fumigant classed as Division 6.1, PG II, in a non-DOT specification bulk packaging mounted on a farm tractor or wagon, not subject to certain requirements of Parts 172 and 177 of the Hazardous Materials Regulations. (mode 1)
14398-N | PHMSA-25935 | Lyondell Chemical Company, Houston, TX | 49 CFR 172.203(a); 179.13; 173.31(c)(1) | To authorize the transportation in commerce of Titanium tetrachloride in DOT-105J600W tank cars with a maximum gross weight on rail that exceeds the maximum limit of 263,000 pounds. (mode 2)
14399-N | PHMSA-25821 | Gas Cylinder Technologies Inc., Tecumseh, Ontario | 49 CFR 173.302a | To authorize the manufacture, marking, sale and use of non-DOT specification cylinders similar to DOT 39 for the transportation of non-flammable, non-liquefied gases. (modes 1, 2, 3, 4, 5)
14400-N | PHMSA-25820 | Ultra Electronics, Alexandria, VA | 49 CFR 172.301, 172.400, 173.306, 175.26 | To authorize the transportation in commerce of Air, compressed in a non-DOT specification high pressure compressor system. (modes 1, 2, 3, 4)
14405-N | PHMSA-26003 | True Drilling LLC, Casper, WY | 49 CFR 173.5a | To authorize the transportation in commerce of certain Class 3 hazardous materials in a truck-mounted meter prover without draining to 10% capacity. (mode 1)
14407-N | PHMSA-25999 | ITW Sexton, Decatur, AL | 49 CFR 173.304a | To authorize the manufacture, marking, sale and use of a non-DOT specification cylinder to be used for the transportation in commerce of certain Division 2.2 materials. (modes 1, 2, 3, 4)
14410-N |  | Voltaix, LLC, North Branch, NJ | 49 CFR 180.209(a) | To authorize the transportation in commerce of DOT Specification 4BW cylinders that are in dedicated use for trimethylchlorosilane, dimethyldichlorosilane and trimethylsilane service and have been visually inspected instead of hydrostatically tested for periodic requalification. (modes 1, 2)
14411-N | PHMSA-26097 | OPW Fueling Components, Cincinnati, OH | 49 CFR 173.150 | To authorize the transportation in commerce of gasoline nozzles (fueling components) containing the residue of gasoline. (modes 1, 2)
14422-N | PHMSA-26307 | Patterson Logistics, Boone, IA | 49 CFR 172.101 Hazardous Materials Table, column 8A | To authorize the transportation in commerce of 4 ounces or less of ethyl chloride as a consumer commodity. (modes 1, 2, 3, 4, 5)
14424-N | PHMSA-26308 | Chart Industries, Inc., Ball Ground, GA | 49 CFR 172.203(a); 177.834(h) | To authorize filling and discharging of a DOT Specification 4L cylinder with carbon dioxide, refrigerated liquid without removal from the vehicle. (mode 1)
14427-N | PHMSA-26246 | The Procter & Gamble Company, Cincinnati, OH | 49 CFR 173.306(a) and 173.306(a)(3)(v) | To authorize the transportation in commerce of Division 2.2 aerosols in non-DOT specification plastic containers not subject to the hot water bath test. (modes 1, 2, 3, 4, 5)
14429-N | PHMSA-26345 | Schering-Plough, Union, NJ | 49 CFR 173.306(a)(3)(v) | To authorize the manufacture, marking, sale and use of a bag-on-valve spray packaging similar to an aerosol container without requiring the hot water bath test. (modes 1, 2, 3, 4, 5)
14437-N | PHMSA-26551 | The Columbiana Boiler Co., Columbiana, OH | 49 CFR 179.300 | To authorize the manufacture, marking, sale and use of non-DOT specification multi-unit tank car tanks similar to DOT 106A for transportation of hazardous materials. (mode 2)
14440-N | PHMSA-26545 | Aiolos Laboratories AB, Karlstad, Sweden | 49 CFR 173.306(a)(3)(v) | To authorize the transportation in commerce of Division 2.1 hazardous materials in certain non-refillable aerosol containers which are not subject to the hot water bath test. (modes 1, 2, 3, 4, 5)
14441-N | PHMSA-27490 | B.J. Alan Company, Youngstown, OH | 49 CFR 173.60 | To authorize the transportation in commerce of certain fireworks in non-DOT specification packagings when returned to the distributor. (mode 1)
14443-N | PHMSA-26540 | Ball Aerospace & Technologies Corp., Boulder, CO | 49 CFR 173.301(a)(1) and (a)(3) | To authorize the transportation in commerce of helium by motor vehicle in a non-DOT specification packaging. (mode 1)
14445-N | PHMSA-26547 | Crown Packaging Technology, Alsip, IL | 49 CFR 173.304(e) and 173.306(a) | To authorize the manufacture, marking, sale and use of a non-DOT specification inside metal container conforming in part with DOT-Specification 2Q for use in transporting R-134a (1,1,2 tetrafluoroethane). (modes 1, 2, 3, 4)
14447-N |  | California Tank Lines, Inc., Stockton, CA | 49 CFR 177.834 | To authorize cargo tanks to remain connected while standing without the physical presence of an unloader when using a specially designed hose. (mode 1)
14452-N | PHMSA-26874 | Martek Biosciences Corporation, Winchester, KY | 49 CFR 173.241 | To authorize the transportation in commerce of certain Division 4.2 hazardous materials in non-DOT specification bulk containers. (mode 1)
14453-N | PHMSA-26875 | FIBA Technologies, Inc., Westboro, MA | 49 CFR 180.209 | To authorize the ultrasonic testing of DOT-3A, DOT-3AA 3AX, 3AAX and 3T specification cylinders for use in transporting Division 2.1, 2.2 or 2.3 material. (modes 1, 2, 3)
14454-N | PHMSA-26876 | Bozel (Europe) France | 49 CFR Subparts D, E and F of Part 172; 173.24(c) and Subparts E and F of Part 173. | To authorize the transportation in commerce of a specially designed device consisting of metal tubing containing certain hazardous materials to be transported as essentially unregulated. (modes 1, 2, 3)
14455-N | PHMSA-26877 | EnergySolutions, LLC, Columbia, SC | 49 CFR 173.403 and 173.427(b)(1) | To authorize the transportation in commerce of Class 7 surface contaminated objects in non-DOT specification packaging. (modes 1, 2, 3)
14458-N | PHMSA-26873 | Hawaii Superferry, Honolulu, HI | 49 CFR 172.101 Column (10A) | To authorize the transportation in commerce of limited quantities of Class 3, Class 9 and Division 2.1 hazardous materials being stowed on and below deck on passenger ferry vessels transporting motor vehicles, such as recreational vehicles, with attached cylinders of liquefied petroleum gas. (mode 6)
14460-N | PHMSA-26872 | Real Sensors, Inc., Hayward, CA | 49 CFR Part 172, subparts B, C, D, E and F | To authorize the transportation in commerce of permeation devices with a maximum volume of 6cc containing anhydrous ammonia. (modes 1, 2, 3, 4)
14462-N | PHMSA-27094 | 3M Company, St. Paul, MN | 49 CFR 171.2(k) | To authorize the transportation in commerce of a liquefied gas that does not meet any Class 2 definition as a Division 2.2 compressed gas. (modes 1, 2, 3, 4, 5)
14467-N | PHMSA-27190 | Brenner Tank, LLC, Fond Du Lac, WI | 49 CFR 178.345-2 | To authorize the manufacture, marking, sale and use of DOT 400 series cargo tanks using alternative materials of construction, specifically duplex stainless steels. (mode 1)
14469-N | PHMSA-27148 | Space Systems/Loral, Palo Alto, CA | 49 CFR 172.101 column (9B) | To authorize the transportation in commerce of anhydrous ammonia by cargo aircraft exceeding the quantities authorized in Column (9B). (mode 4)
14471-N |  | University of Colorado Hospital, Denver, CO | 49 CFR 173.12 | To authorize the one-way transportation in commerce of various hazardous materials in lab packs to facilitate relocation of laboratory facilities. (mode 1)
14472-N |  | University of Colorado Hospital, Denver, CO | 49 CFR 173.196; 178.609 | To authorize the one-way transportation in commerce of infectious substances other than Risk Group 4 in specially designed packaging (freezers). (mode 1)
14474-N |  | OSI Environmental Inc., Eveleth, MN | 49 CFR 173.243 | To authorize the transportation in commerce of petroleum crude oil in non-DOT specification cargo tanks, in a spill mitigation effort. (mode 1)
14475-N | PHMSA-27253 | Chemtura Corporation, Middlebury, CT | 49 CFR 173.24a(a)(1) | To authorize the transportation in commerce of certain packagings containing Consumer commodity, ORM-D with closures that are not oriented in the upward direction. (modes 1, 2)
14479-N | PHMSA-27692 | Medical Waste Institute, Washington, DC | 49 CFR 172.301(a); 172.301(c); 172.312(a)(2) | To authorize the use of containers marked with an alternative shipping name for UN3291. (mode 1)
14480-N | PHMSA-28525 | REC Advanced Silicon Materials LLC, Silver Bow, MT | 49 CFR 173.301(1)(iii)(2) | To authorize the transportation in commerce of certain DOT specification cylinders and cylinders manufactured to a foreign specification without pressure relief devices. (modes 1, 3)
14482-N | PHMSA-27691 | Classic Helicopters, Woods Cross, UT | 49 CFR 172.204(c)(3); 173.27(b)(2)(3); 175.30(a)(1) | To authorize the transportation of certain Division 1.2 explosives by cargo aircraft (helicopter). (mode 4)
14484-N | PHMSA-27696 | E Ink Corporation, Cambridge, MA | 49 CFR 173.202(a), 173.202(c), 173.28(b)(2) | To authorize the manufacture, marking, sale and use of reusable stainless steel vessels for the transportation in commerce of certain Class 3 hazardous materials. (mode 1)
14485-N | PHMSA-27689 | Constellation Technology Corporation | 49 CFR Part 172 Subpart E and F; Part 174 except 174.24, Part 176 except 176.24 and Part 177 except 177.817; Sections 173.302a, 173.306(b)(4) and 175.3 | To authorize the manufacture, marking, sale and use of non-DOT specification cylinders for the transportation in commerce of certain Division 2.1 and 2.2 gases. (modes 1, 2, 3, 4, 5)
14487-N | PHMSA-27829 | Osmose Inc., Millington, TN | 49 CFR 173.212 | To authorize the one-way transportation in commerce of Arsenic trioxide, Division 6.1, PG II in non-DOT specification drums. (mode 1)
14492-N | PHMSA-27836 | Tankbouw Rootselaar B. V., The Netherlands | 49 CFR 178.276(a)(1) and (a)(2) | To authorize the manufacture, mark, sale and use of non-DOT specification portable tanks conforming with the 2004 edition (+2005 Addenda) of Section VIII, Division 1 of the ASME Code for the transportation in commerce of certain Division 2.1 and 2.2 hazardous materials. (modes 1, 2, 3)
14493-N | PHMSA-27835 | Thermacore, Inc., Lancaster, PA | 49 CFR 173.306(e) | To authorize the transportation in commerce of non-DOT specification containers (heat pipes) containing anhydrous ammonia for use in specialty cooling applications. (modes 1, 2, 3, 4)
14494-N | PHMSA-27834 | Airgas, Inc., Cheyenne, WY | 49 CFR 172.202, 172.301(a) and 172.301(c) | To authorize the transportation in commerce of cylinders that are marked with obsolete proper shipping descriptions to allow for their return. (modes 1, 2, 3, 4, 5)
14495-N | PHMSA-27839 | GE Healthcare, Arlington Heights, IL | 49 CFR 173.302(a), 175.3 | To authorize the transportation in commerce of a Division 2.2 gas in a non-DOT specification cylinder. (modes 1, 4)
14496-N | PHMSA-27831 | Oilphase Division, Schlumberger Eval. & Production (UK) Ltd., Dyce, Aberdeen, UK | 49 CFR 173.201(c), 173.202(c), 173.203(c), 173.301(f), 173.302(a), 173.304(a), 173.304(d), 175.3 | To authorize the manufacture, marking, sale and use of non-DOT specification cylinders similar to a DOT 3A for the transportation of Division 2.1 and 2.3 gases. (modes 1, 2, 3, 4)
14502-N | PHMSA-27937 | Ropak Southeast, LaGrange, GA | 49 CFR 178.3(a)(1), 178.502(a)(1) | To authorize the transportation in commerce of approximately 3900 UN 1H1 drums that were incorrectly marked as jerricans (3H1). (modes 1, 2, 3, 4, 5)
14503-N | PHMSA-27938 | Gay Lea Foods Co-operative Limited, Guelph | 49 CFR 173.306(b)(1) | To authorize the transportation in commerce of an aerosol foodstuff in a nonrefillable metal container similar to a DOT Specification 2P. (modes 1, 2, 3, 4, 5)
14506-N | PHMSA-28187 | Jacobs Engineering, Anchorage, AK | 49 CFR 173.4(a)(1)(i) | To authorize the transportation in commerce of a Class 3 material in a non-DOT Specification packaging. (modes 1, 2, 3, 4, 5, 6)
14509-N | PHMSA-28225 | Pacific Consolidated Industries, LLC, Riverside, CA | 49 CFR 173.302(a)(1), 173.304a(a)(1),175.3 | To authorize the manufacturing, marking, sale and use of brass-lined filament wound cylinders for use in transporting certain Division 2.1 and 2.2 gases. (modes 1, 2, 3, 5)
14510-N | PHMSA-28186 | Clean Earth Systems, Inc., Tampa, FL | 49 CFR 173.12(b), 173.12(b)(2)(i) | To authorize the transportation in commerce by motor vehicle of certain hazardous materials in UN4G fiberboard boxes lined with polyethylene. (mode 1)
14513-N | PHMSA-28183 | Hazmat Services, Inc., Anaheim, CA | 49 CFR 173.12(b)(2)(ii), 172.101(b)(1),173.12(b)(1) | To authorize the transportation in commerce of chemically-compatible hazardous materials with different hazard classes in lab packs. (mode 1)
14517-N | PHMSA-28269 | The Children's Hospital, Denver, CO | 49 CFR 173.196; 178.609 | To authorize the one-way transportation in commerce of infectious substances other than Category A in specially designed packaging (freezers). (mode 1)
14519-N | PHMSA-28467 | Commodore Advanced Sciences, Inc., Richland, WA | 49 CFR 173.244 | To authorize the one-time, one-way transportation in commerce of solidified sodium metal (UN1428) in alternative packaging from Mobile, Alabama to Oakridge, Tennessee. (modes 1, 2)
14522-N | PHMSA-28464 | Toyota Motor Sales, U.S.A., Inc., Torrance, CA | 49 CFR Part 172 and Part 173 | To authorize the transportation in commerce of certain Class 8 and 9 hazardous materials across a public road within Toyota's facility to be transported as non-regulated. (mode 1)
14523-N | PHMSA-28469 | Pacific Bio-Material Management, Inc., Fresno, CA | 49 CFR 173.196(b); 173.196(e)(2)(ii) | To authorize the transportation in commerce of certain infectious substances in specially designed packaging (freezers). (mode 1)
14524-N | PHMSA-28470 | Oxia U.S. Ltd., Las Vegas, NV | 49 CFR 173.306(a)(1) | To authorize the transportation in commerce of a DOT Specification 3AL cylinder containing 90% oxygen and 10% nitrogen as consumer commodity when the capacity does not exceed 5.2 ounces transported by motor vehicle. (mode 1)
14525-N | PHMSA-28465 | Alcoa Inc., Pittsburgh, PA | 49 CFR Parts 171-180 except shipping papers and ID number marking | To authorize the transportation in commerce of certain used diatomaceus earth filter material not subject to the Hazardous Materials Regulations, except for shipping papers and certain marking requirements when transported by motor vehicle. (mode 1)
14527-N | PHMSA-29269 | FedEx Express, Memphis, TN | 49 CFR 175.33 | To authorize the air transportation of certain hazardous materials without identifying the packaging type on the Notification to Pilot in Command. (modes 4, 5)
14528-N | PHMSA-28270 | Halpern Import Company, Inc., Atlanta, GA | 49 CFR 173.304; 173.306 | To authorize the transportation in commerce of butane in approximately 20,016 non-DOT specification, non-refillable inner receptacles containing butane in non-UN standard outer packagings.
14532-N | PHMSA-28696 | Degussa Corporation, Parsippany, NJ | 49 CFR 173.31(d)(i)(vi); 172.302(c) | To authorize the transportation in commerce of certain Division 5.1 hazardous materials in tank cars that have not had their rupture disk removed for inspection. (mode 2)
14545-N | PHMSA-28830 | UCLA Film and Television Archive, Hollywood, CA | 49 CFR 173.183 | To authorize the one-way transportation in commerce of cellulose nitrate motion picture film from two locations in Hollywood, CA to climate-controlled film vaults in Santa Clarita, CA in alternative packaging. (mode 1)
14548-N | PHMSA-28912 | International Air Transport Association, Montreal | 49 CFR 175.10(15) | To authorize the transportation in commerce of wheelchairs or other battery-powered mobility aids equipped with a non-spillable battery when carried as checked baggage, provided the battery meets certain provisions in 49 CFR, the battery terminals are protected from short circuits, and the battery is securely attached to the wheelchair or mobility aid. (mode 5)
14555-N |  | Norton Sound Economic Development Corporation, Nome, AK | 49 CFR 173.159(c)(1) | To authorize the one-way transportation in commerce of a forklift battery pack by air in an area of Alaska where no other means of transportation is practicable. (mode 5)
14564-N | PHMSA-29144 | Bealine Service Co., Inc., Pasadena, TX | 49 CFR 173.33(a)(3) | To authorize the one-time, one-way transportation in commerce of an MC 412 DOT-specification cargo tank that was filled with a Class 9 hazardous material when it was past due for inspection. (mode 1)
EMERGENCY SPECIAL PERMIT GRANTED
EE 14242-M | PHMSA-25164 | EPA Region 6 (Louisiana), Dallas, TX | 49 CFR 171-180 | To reissue the exemption originally issued on an emergency basis to support the recovery and relief efforts to, from and within the Hurricane Katrina and Hurricane Rita disaster areas of Louisiana under conditions that may not meet the Hazardous Materials Regulations. (modes 1, 2, 3, 4)
EE 14167-M | PHMSA-20669 | FRA | 49 CFR 173.26, 173.314(c), 179.13 and 179.100-12(c) | To modify the special permit for consistency with other similar special permits. (mode 2)
EE 14391-M |  | W.E.L., Inc., Concord, VA | 49 CFR 173.28(a), 173.35(a) and 173.35(b) | To modify the special permit to reflect the new abatement location. (mode 1)
EE 12920-M | RSPA-11638 | Epichem, Inc. | 49 CFR 173.181(c) | To modify the special permit to authorize a 68.3mm center opening in the top head of the containers authorized in the special permit. (modes 1, 3)
EE 13169-M | RSPA 13894 | Conocophillips Alaska, Inc., Anchorage, AK | 49 CFR 172.101(9B) | To reissue the exemption originally issued on an emergency basis for the transportation of certain Class 9 materials in UN 31A intermediate bulk containers which exceed quantity limitations when shipped by air. (mode 4)
EE 12995-M | PHMSA-12220 | Dow Chemical Company, Midland, MI | 49 CFR 173.306(a)(3)(v) | To modify the exemption to authorize the use of the DOT 2Q specification container with an increased container pressure not to exceed 180 psig at 55 degrees C. (modes 1, 2, 3, 4)
EE 14412-M | PHMSA-26098 | BP Exploration Alaska, Anchorage, AK | 49 CFR 173.201 | To modify the special permit to authorize cargo vessel as an authorized mode of transportation. (mode 1)
EE 14418-M | PHMSA-26182 | Department of Defense, Ft. Eustis, VA | 49 VFR 172.301; 172.400; 172.504(a) | (modes 1, 4, 5)
EE 14418-M | PHMSA-26182 | Department of Defense, Ft. Eustis, VA | 49 CFR 172.301; 172.400; 172.504(a) | To correct typos in paragraph 2 and 7.b(2) (modes 1, 4, 5)
EE 10427-M |  | Astrotech Space Operations, Inc., Titusville, FL | 49 CFR 173.61(a); 173.301(f); 173.302a; 173.336; 177.848(d) | To modify the exemption to authorize a quantity increase from 700 pounds to 1200 pounds of a Division 2.2 material transported on the same motor vehicle with various hazardous materials. (mode 1)
EE 14414-M |  | Sea Launch, Long Beach, CA | 49 CFR Part 172 Subparts C, D, E and F; 173.62; Part 173 Subparts E, F and G | To modify the special permit to authorize any charter flight that conforms and is certified to FAA Part 129 and to expand the site of Long Beach to include metro LA airports. (modes 1, 3, 4)
EE 12668-M | PHMSA-9385 | Tri-Wall, A Weyerhaeuser Business, Exeter, CA | 49 CFR 173.12(b)(2)(i) | To modify the special permit to authorize cargo vessel as an approved mode of transportation. (modes 1, 3)
EE 14463-M | PHMSA-26976 | Korean Air Lines Co., Ltd., Los Angeles, CA | 49 CFR 172.101 Column (9B), 172.204(c)(3), 173.27; 175.30(a)(1), 175.320 | To modify the special permit to correct the maximum net weight of explosives. (mode 4)
EE 12135-M | RSPA-4418 | Daicel Safety Systems, Inc. Hyogo Prefecture, 671-1681 | 49 CFR 173.301(h); 173.302; 173.306(d)(3) | To modify the special permit to authorize a new design of non-DOT specification cylinders (pressure vessels) for use as components of automobile vehicle safety systems to prevent severe economic loss. (modes 1, 2, 3, 4)
EE 14399-M | PHMSA-25821 | Gas Cylinder Technologies Inc., Tecumseh, Ontario | 49 CFR 173.302a | To modify the special permit to specifically authorize the transportation in commerce of oxygen, compressed by air. (modes 1, 2, 3, 4, 5)
EE 14431-M | PHMSA-26347 | Kraton Polymers, Belpre, OH | 49 CFR 173.227(c) | To modify the special permit to authorize a drum rated to the PG II level for the transportation of ethylene dibromide. (modes 1, 2, 3)
EE 11650-M |  | Autoliv ASP, Inc., Ogden, UT | 49 CFR 173.301; 173.302; 178.65-9 | To modify the special permit for consistency with other air bag special permits. (modes 1, 2, 3, 4)
EE 14466-M | PHMSA 27095 | Alaska Pacific Powder Company, Anchorage, AK | 49 CFR 172.101 Column (9B) | To modify the special permit by specifying the specific sections for which segregation applies. (mode 4)
EE 10885-M |  | U.S. Department of Energy, Washington, DC | 49 CFR 172.101 Col. 9(b); 172.204(c)(3); 173.27(b)(2); 173.27(f) Table 2; 175.30(a)(1); 172.27(b)(3) | To modify the special permit to authorize the transportation in commerce of additional hazardous materials and to provide relief from segregation by highway. (mode 4)
EE 14466-M | PHMSA 27095 | Alaska Pacific Powder Company, Anchorage, AK | 49 CFR 172.101 Column (9B) | To modify the special permit to allow the transportation in commerce of additional Class 1 explosive materials which are forbidden for transportation by air, to be transported by cargo aircraft within the State of Alaska when other means of transportation are impracticable or not available. (mode 4)
EE 11536-M |  | Boeing Company, The, Los Angeles, CA | 49 CFR 173.102 Spec. Prov, 101; 173.24(g); 173.62; 173.202; 173.304; 175.3 | To modify the special permit to authorize an additional Class 1 material and make minor editorial changes. (modes 1, 3, 4)
EE 14580-M |  | LifeSparc, Hollister, CA | 49 CFR 173.56(b) | To modify the special permit by adding an additional proper shipping description and related packaging. (mode 1)
EE 14380-N |  | Northern Air Cargo, Inc., Anchorage, AK | 49 CFR 172.101 Column (9B) | To authorize the one-time one-way transportation in commerce of anhydrous ammonia in two DOT-4AA 480 specification cylinders aboard a cargo-only aircraft.
EE 14381-N | PHMSA-25456 | Ball Corporation, Elgin, IL | 49 CFR 178.33a-8 | To authorize the manufacture, mark, sale and use of an existing inventory of approximately 438,000 DOT-specification 2P inner metal containers that were inadvertently marked 2Q in addition to the 2P marking. (modes 1, 2, 3, 4, 5)
EE 14389-N | PHMSA-25607 | The Boeing Company, Huntington Beach, CA | 49 CFR 173.302 | To authorize the one-way transportation in commerce of the NEXTSat satellite containing a non-DOT specification pressure vessel and a lithium ion battery by motor vehicle.
EE 14390-N |  | Korean Air Lines Co., Ltd., Los Angeles, CA | 49 CFR 171.101172.101, 172.204(c)(3), 173.27; 175.30(A)(1), 175.320 | To authorize the transportation of certain Division 1.1D and 1.1J explosives which are forbidden for shipment by cargo-only aircraft. (mode 4)
EE 14391-N |  | W.E.L., Inc., Concord, VA | 49 CFR 173.28(a), 173.35(a) and 173.35(b) | To authorize the one-time, one-way transportation in commerce by motor vehicle of Sodium hydrosulfite in intermediate bulk containers that have been damaged by fire. (mode 1)
EE 14396-N | PHMSA-25783 | Matheson Tri-Gas, Parsippany, NJ | 49 CFR 173.192(a) | To authorize the transportation in commerce of Arsine, Division 2.3, in certain DOT specification and non-DOT specification cylinders not normally authorized for cargo vessel transportation, for export only. (modes 1, 3)
EE 14404-N | PHMSA-26005 | Miller Transporters, Inc., Jackson, MS | 49 CFR 173.243 | To authorize the emergency transportation in commerce of a tank that at one time conformed to the MC-312 specifications, but due to sub-standard modifications made to the overturn protection and to the rear end protection to allow for the addition of piping and valves, it may no longer be in compliance with DOT specifications. (mode 1)
EE 14412-N | PHMSA-26098 | BP Exploration Alaska, Anchorage, AK | 49 CFR 173.201 | To authorize the emergency transportation in commerce of a pipeline pipe specimen containing a Class 3 hazardous material by motor vehicle. (mode 1)
EE 14415-N | PHMSA-27694 | Prometheus International, Inc., Commerce, CA | 49 CFR 173.21, 173.24, 173.27, 173.308, 175.5, 175.10, 175.30, 175.33 | Emergency exemption request to authorize the transportation of gas and liquid fueled Prometheus lighters in special travel containers in checked luggage in commercial passenger aircraft. (mode 5)
EE 14416-N | PHMSA-26181 | Sandia National Laboratories, Albuquerque, NM | 49 CFR 173.301(f) | To authorize the transportation in commerce of the Advance Flight Telescope (AFT) Payload containing ICC 3A and DOT 3AA specification cylinders containing nitrogen without pressure relief devices. (modes 1, 4, 5)
EE 14418-N | PHMSA-26182 | Department of Defense, Ft. Eustis, VA | 49 CFR 172.301; 172.400; 172.504(a) | To authorize the transportation in commerce of a water reactive material in special packaging as Unitized Group Ration-Express (UGR-E) without being subject to Subchapter C of the Hazardous Materials Regulations. (modes 1, 4, 5)
EE 14419-N |  | Voltaix, LLC, Branchburg, NJ | 49 CFR 173.181(a) | To authorize the transportation in commerce of pyrophoric liquid n.o.s. in cylinders that are not authorized for that material. (mode 1)
EE 14421-N | PHMSA-26247 | Lancaster Laboratories, Inc., Lancaster, PA | 49 CFR 173.4 | To authorize the transportation in commerce of Nitric acid other than red fuming with 20% or less nitric acid as small quantities under the provision of 49 CFR 173.4. (mode 4)
EE 14431-N | PHMSA-26347 | Kraton Polymers, Belpre, OH | 49 CFR 173.227(c) | To authorize the transportation in commerce of ethylene dibromide in alternative packaging. (modes 1, 2, 3)
EE 14435-N | PHMSA-26500 | Tetra Technologies, Inc., The Woodlands, TX | 49 CFR 173.249(c) | To authorize the one-time, one-way transportation of Bromine in a DOT Specification IM101 portable tank that is not filled between 88 and 92% of capacity. (mode 1)
EE 14450-N |  | Nalco Energy Services LP, Naperville, IL | 49 CFR 177.834 | To authorize additional time for retrofitting IBCs to meet the valving requirements of DOT-SP 12412 which authorizes the unloading of IBCs without removal of the transport vehicle. (mode 1)
EE 14451-N |  | Halpern Import Company, Inc., Atlanta, GA | 49 CFR 173.306(a) | To authorize the transportation in commerce of cans of lighter refills, reclassed as consumer commodities, in non-DOT specification packages. The containers exceed the 4 ounce capacity limitation. (mode 1)
EE 14459-N |  | The Library of Congress, WPAFB, OH | 49 CFR 173.212(b) in that a non-DOT specification package is authorized; and 173.301(c) in that marking the special permit number on the package is waived | To authorize the one-time transportation in commerce of certain nitrate cellulose film packaged in metal cans and shrink-wrapped on pallets. (mode 1)
EE 14463-N | PHMSA-26976 | Korean Air Lines Co., Ltd., Los Angeles, CA | 49 CFR 172.101 Column (9B), 172.204(c)(3), 173.27; 175.30(a)(1), 175.320 | To authorize the transportation of certain explosives which are forbidden for shipment by cargo-only aircraft. (mode 4)
EE 14464-N | PHMSA-26975 | Agmark Foods, Nashville, TN | 49 CFR 171.14(d)(4) and 173.32(c)(2) | To authorize the transportation in commerce of Ethyl alcohol solution in certain ISO portable tanks that do not meet Portable Tank Code T-3. (mode 1)
EE 14466-N | PHMSA-27095 | Northern Air Cargo, Inc., Anchorage, AK | 49 CFR 172.101 Column (9B) | To authorize the transportation in commerce of certain Class 1 explosive materials which are forbidden for transportation by air, to be transported by cargo aircraft within the State of Alaska when other means of transportation are impracticable or not available. (mode 4)
EE 14476-N | PHMSA-27282 | BP Products North America, Inc. (formerly BP Amoco Oil), Texas City, TX | 49 CFR 173.202, 173.203, 173.312, and 173.213 | To authorize the transportation in commerce of certain hazardous materials in non-DOT specification heat exchanger pressure vessels and heat exchanger tube bundles. (mode 1)
EE 14477-N | PHMSA-27345 | Honeywell International, Inc., Morristown, NJ | 49 CFR 173.40(b); 173.301(f) | To authorize the one-way transportation in commerce of approximately 29 DOT 3AA-2015 cylinders overfilled with a Division 2.3 Hazard Zone B hazardous material. (mode 1)
EE 14478-N | PHMSA-28182 | Pilkington North America, Inc., Northwood, OH | 49 CFR 178.603 | Request for special permit to authorize the alternative testing of custom manufactured containers that will be used to transport flammable solids, organic, n.o.s. (ferrocene). (mode 1)
EE 14488-N |  | Sanofi Pasteur, Swiftwater, PA | 49 CFR 173.24(b)(1) | To authorize the transportation in commerce of an influenza vaccine in a custom stainless steel batch reactor at a constant pressure of 1-5 psig by use of a cylinder feeding air into the reactor. (mode 1)
EE 14489-N |  | Chugach Electric Association, Inc., Anchorage, AK | 49 CFR 172.101 Hazardous Materials Table Column (9B) | To authorize the transportation in commerce of Caustic alkali liquids in certain bulk packaging of 400 gallon capacity or less by cargo aircraft within the State of Alaska. (mode 4)
EE 14497-N | PHMSA-27828 | B&H Systems, Inc., Elk Grove Village, IL | 49 CFR 173.183 and 172.302(c) | This emergency special permit authorizes the one-time transportation in commerce of certain nitrate cellulose film packaged in non-DOT specification packaging. (mode 1)
EE 14501-N |  | Halliburton Energy Services, Inc., Houston, TX | 49 CFR Parts 171-180 | To authorize the emergency transportation in commerce of radioactive material in a section of pipe not subject to the Hazardous Materials Regulations except as provided herein. (modes 1, 3)
EE 14516-N | PHMSA-28468 | FedEx Express, Baton Rouge, LA | 49 CFR 175.75(d), 172.203(a), 172.301(c) | To authorize a package of radioactive material that is labeled with the Cargo Aircraft Only label and also a subsidiary hazard label to be loaded in an accessible cargo location when transported by aircraft. (modes 4, 5)
EE 14518-N |  | Alliant Techsystems, Inc. (ATK), Plymouth, MN | 49 CFR 173.62 | To authorize the transportation in commerce of Primers, cap type, UN0044 in non-DOT specification packaging when transported by private carrier for a distance of 10 miles or less. (mode 1)
EE 14526-N |  | Kidde Aerospace, Wilson, NC | 49 CFR 173.302a | To authorize the one-way transportation of a Division 2.2 compressed gas in a non-DOT specification cylinder similar to a DOT-39 for transportation by motor vehicle. (modes 1, 3)
EE 14530-N |  | Sandia National Laboratories, Livermore, CA | 49 CFR 173.242 | To authorize the transportation in commerce of a PG III flammable liquid in alternative packaging (a Neutron Scatter Camera) by motor vehicle and cargo vessel. (modes 1, 3)
EE 14531-N |  | Astar Air Cargo, Inc., Wilmington, OH | 49 CFR Parts 100-180 | To authorize the transportation in commerce of a breath tester in company owned aircraft as unregulated. (modes 4, 5)
EE 14533-N |  | Skydande Helicopters of Northern Nevada, Inc., Minden, NV | 49 CFR 172.101 Column (9B) | To authorize the transportation of certain forbidden explosives by helicopter in remote areas of Utah, Oklahoma, Colorado and Wyoming to seismic drilling sites. (mode 4)
EE 14540-N | PHMSA-28731 | Korean Air Lines Co., Ltd., Los Angeles, CA | 49 CFR 172.101 Column (9B), 172.204(c)(3), 173.27; 175.30(a)(1), 175.320 | To authorize the air transportation in commerce of certain explosives which are forbidden for shipment by cargo-only aircraft. (mode 4)
EE 14541-N |  | Northern Air Cargo, Inc., Anchorage, AK | 49 CFR 172.101 Column (9B), 172.301(c) and 172.203(a) | To authorize the one-time one-way transportation in commerce of anhydrous ammonia in a DOT-4AA 480 specification cylinders aboard a cargo-only aircraft. (mode 4)
EE 14551-N | PHMSA-28928 | Aerojet, Redmond, WA | 49 CFR 173.56 | To authorize the transportation in commerce of certain explosives as Dangerous Good in Apparatus, UN3363 instead of the EX classification of Cartridge, power device, UN0323. (modes 1, 2, 3, 4, 5)
EE 14553-N | PHMSA-28929 | Chemtrade Logistics, Inc., North York, ON | 49 CFR 178.3(a) | To authorize the transportation in commerce of approximately 3,200 UN1A2 drums containing Sodium Hydrosulfite powder, UN1384 that are marked with the UN certification only on the head of the drum. (mode 1)
EE 14557-N |  | Pacific Bio-Material Management, Inc., Fresno, CA | 49 CFR 173.196 and 178.609 | To authorize the one-time, one-way transportation in commerce of certain Category A infectious substances by motor vehicle in alternative packaging for a distance of less than 15 miles. (mode 1)
EE 14562-N |  | The Lite Cylinder Company, Franklin, TN | 49 CFR 173.304a(a)(1) | To authorize the manufacture, marking, sale and use of a non-DOT specification, liner-less, fully-wrapped fiberglass composite cylinder for the transportation in commerce of certain Division 2.1 and 2.2 materials.
EE 14563-N | PHMSA-29093 | The Procter & Gamble Distributing LLC, Cincinnati, OH | 49 CFR 171.8 and 173.306(a)(3) | To authorize the one-time, one-way, transportation in commerce of certain non-DOT specification metal receptacles containing Division 2.1 material as Consumer commodity, ORM-D by motor vehicle for disposal only. (mode 1)
EE 14568-N | PHMSA-29130 | Department of Defense, Ft. Eustis, VA | 49 CFR 173.431 | To authorize the transportation in commerce of portable nuclear gauges containing certain radioactive materials exceeding the quantity that may be transported in a Type A packaging.
EE 14579-N |  | Summitt Environmental, Inc. (Summitt), Wake Village, TX | 49 CFR 173.304a | To authorize the transportation in commerce of non-DOT specification cylinders containing methylamine, anhydrous one-time, one-way by motor vehicle for disposal. (mode 1)
EE 14580-N |  | LifeSparc, Hollister, CA | 49 CFR 173.56(b) | To authorize the transportation in commerce of certain explosive materials without an EX approval by motor vehicle. (mode 1)
EE 14581-N |  | Saint Louis University, St. Louis, MO | 49 CFR 173.196; 178.609 | To authorize the one-way transportation in commerce of infectious substances other than Risk Group 4 in specially designed packaging (freezers). (mode 1)
EE 14583-N |  | Matheson Tri-Gas, Parsippany, NJ | 49 CFR 173.3(d) | To authorize the one-time, one-way transportation in commerce of a leaking DOT 3AA specification cylinder containing dichlorosilane overpacked in a salvage cylinder. (modes 1, 3)
MODIFICATION SPECIAL PERMIT WITHDRAWN
11650-M |  | Autoliv ASP, Inc., Ogden, UT | 49 CFR 173.301; 173.302; 178.65-9 | To modify the special permit to allow a failure to occur at a gage pressure less than 2.0 times the test pressure as provided by 49 CFR 178.65(f)(2)(i) or the pressure required to demonstrate a 1.5 times Safety Factor per the USCAR specifications.
10698-M |  | Worthington Cylinders-Wisconsin, Chilton, WI | 49 CFR 173.304(a)(2); 178.50 | To modify the special permit to authorize charging of the cylinders with an additional Division 2.2 gas.
14172-M | PHMSA-20906 | Pacific Bio-Material Management, Inc., d/b/a/ Pacific Scientific Transport, Fresno, CA | 49 CFR 173.196 and 173.199 | To modify the special permit to authorize additional customers outside of the current radius specified in the permit, to allow more than two freezers on each dedicated transport vehicle and to authorize more than seven shipments per year.
5022-M |  | Alliant Techsystems, Inc., Elkton, MD | 49 CFR 174.101(L); 174.104(d); 174.112(a); 177.834(1)(1) | To modify the special permit to authorize the transportation in commerce of additional Division 1.2 hazardous materials.
NEW SPECIAL PERMIT WITHDRAWN
14408-N | PHMSA-25996 | TOTAL Petrochemicals USA Inc., Pasadena, TX | 49 CFR 173.242; 178.245-1(c); 178.245-1(d) (4) | To authorize the transportation in commerce of a non-DOT specification portable tank comparable to a specification DOT 51 portable tank equipped with bottom outlet and no internal shutoff valve for use in transporting various hazardous materials classed in Division 4.2 and 4.3. (modes 1, 3)
14420-N | PHMSA-26306 | Garden State Tobacco d/b/a H.J. Bailey Co., Neptune, NJ | 49 CFR 173.186(c) | To authorize the transportation in commerce of strike anywhere matches in non-DOT specification packages not exceeding 50 pounds each by private motor carrier not subject to the Hazardous Materials Regulations, except for marking. (mode 1)
14438-N | PHMSA-26550 | Matheson Tri-Gas, Parsippany, NJ | 49 CFR 173.301(h) and 173.40 | To authorize the transportation in commerce of certain DOT 3A and 3AA cylinders containing Division 2.1, 2.2 and 2.3 hazardous materials that have developed a leak and been capped with a special sealing device. (modes 1, 2, 3)
14468-N | PHMSA-27188 | REC Advanced Silicon Materials LLC, Butte, MT | 49 CFR 173.301(f) | To authorize the transportation in commerce of certain cylinders containing Silane, compressed with a capacity over 50 L with a single relief device rather than one at each end. (modes 1, 2, 3)
14473-N | PHMSA-27189 | Weatherford International, Fort Worth, TX | 49 CFR 173.302a and 173.304a | To authorize the manufacture, marking, sale and use of a non-DOT specification cylinder similar to a DOT Specification 3A cylinder for use in the oil well sampling industry. (modes 1, 2, 3, 4)
14529-N | PHMSA-28526 | EnviroClean Management Services, Inc., Dallas, TX | 49 CFR 172.301(c); 173.197(d) | To authorize the transportation in commerce of regulated medical waste in containers that are not leak-proof per 173.197(d). (mode 1)
EMERGENCY SPECIAL PERMIT WITHDRAWN
EE 11109-M |  | Northland Services, Inc., Seattle, WA | 49 CFR 176.170(b) | To modify the special permit to authorize transportation of Division 5.1 materials. (mode 3)
EE 14446-N |  | Matheson-Tri Gas, Parsippany, NJ | 49 CFR 173.301(1) | To authorize the transportation in commerce of 196, new foreign-manufactured cylinders, not previously filled, but hydro-tested at the time of manufacture, to be permitted to be filled for the first time without an additional hydrostatic test, as required in 49 CFR 173.301(1). (modes 1, 3)
EE 14521-N |  | World Asia Logistics, Inc., Los Angeles, CA | 49 CFR 172.101 Column (9B) | To authorize the transportation in commerce of Hydrogen bromide, anhydrous by cargo aircraft. (mode 4)

DENIED
11911-M | Request by Transfer Flow, Inc Chico, CA December 27,2006. To modify the special permit to authorize quick connect hoses which would contain hazardous material when disconnected.
10945-M | Request by Structural Composites Industries Pomona, CA October 05, 2006. To modify the special permit to authorize retest markings to be applied to the cylinder neck.
12412-M | Request by ChemStation International Lima, OH March 16, 2007. To modify the special permit to allow the attendance requirements in 49 CFR 177.837(d) for Class 8 materials described as “Compounds, cleaning liquid.”
12574-M | Request by Weldship Corporation Bethlehem, PA July 02, 2007. To modify the special permit to authorize the transportation in commerce of all hazardous materials currently authorized in DOT specification 107A seamless steel tank cars.
12283-M | Request by Interstate Battery of Alaska Anchorage, AK June 08, 2007. To modify the special permit to authorize the round trip transportation in commerce of batteries within the State of Alaska.
11911-M | Request by Transfer Flow, Inc Chico, CA July 17, 2007. To modify the special permit to allow an increase in the size of refueling tanks from 100 gallons to 300 gallons and to allow hoses to be attached to discharge outlets during transportation.
12274-M | Request by Snow Peak, Inc Clackamas, OR July 19, 2007. To modify the special permit to authorize larger non-DOT specification nonrefillable inside containers.
14447-M | Request by California Tank Lines, Inc. Stockton, CA July 19, 2007. To modify the special permit to authorize the unloading of DOT Specification MC 330 and 331 while the hose is still attached.
14282-M | Request by Dyno Nobel, Inc. Salt Lake City, UT August 07, 2007. To modify the special permit to authorize the transportation in commerce of additional Division 3 and 5.1 materials.
11579-M | Request by Senex Explosives, Inc. Cuddy, PA September 27, 2007. To modify the special permit to authorize the transportation of additional Class 3 materials and the use of several DOT specification and non-DOT specification bulk packagings.
14397-N | Request by UltraCell Corporation Livermore, CA April 05, 2007. To authorize the transportation in commerce of up to 250 milliliters of a 70% methanol/water solution in non-DOT specification combination packaging not subject to the Hazardous Materials Regulations.
14406-N | Request by Equa-Chlor Longview, WA November 08, 2006. To authorize the transportation in commerce of a DOT specification 105J600W tank car having a gross weight on rail of 286,000 pounds, for use in transportation of chlorine, Division 2.3, Poison-Inhalation Hazard/Zone B.
14423-N | Request by Accutest Laboratories Dayton, NJ May 08, 2007. To authorize the transportation in commerce of Nitric acid other than red fuming with 50% or less nitric acid as small quantities under the provision of 49 CFR 173.4.
14430-N | Request by Prometheus International, Inc. Commerce, CA December 19, 2006. To authorize the transportation of a gas fuel tank for a lighter packaged in a special travel container in checked luggage on commercial passenger aircraft.
14448-N | Request by UltraCell Corporation Livermore, CA April 10, 2007. To authorize passengers on aircraft to carry on fuel cells and spare cartridges as unregulated.
14449-N | Request by Applied Companies Valencia, CA April 05, 2007. To authorize the manufacture, marking, sale and use of non-DOT specification cylinder similar to a DOT 4D for the transportation of nitrogen and carbon dioxide.
14470-N | Request by Marsulex, Inc. Springfield, OR August 31, 2007. To authorize the transportation in commerce of certain hazardous materials by rail when the unloader does not secure access to the track as required by 49 CFR 174.67(a)(3).
14481-N | Request by Transload of North America Middlesex, NJ August 02, 2007. To authorize the transportation in commerce of Class 9 solid hazardous waste in non-DOT Specification FIBCs.
14499-N | Request by Optimus International AB, September 10, 2007. To authorize the manufacture, marking, sale and use of non-DOT specification, nonrefillable inside containers similar to DOT-2P for certain Division 2.1 flammable gases.
14515-N | Request by STAKO, September 12, 2007. To authorize the manufacture, marking and sell of non-DOT specification fiber reinforced plastic cylinders built to DOT FRP-1 standard for use in transporting various flammable and non-flammable gases.
14535-N | Request by Environmental Packaging Technologies Houston, TX October 05, 2007. To authorize the transportation in commerce of certain hazardous materials with a vapor pressure of 150 kPa at 55°C in intermediate bulk containers.
14409-N | Request by Velsicol Chemical Corporation Rosemont, IL November 20, 2006. To authorize the transportation in commerce of a DOT-specification portable tank containing hexachlorocyclopentadiene, Division 6.1, Hazard Zone B by vessel which is not loaded to a filling density between 20% and 80% capacity.
14433-N | Request by Cymer, LLC Decatur, TN November 22, 2006. To authorize the transportation in commerce of toxic by inhalation hazard liquids in combination packagings that have not had the required leakproof and hydrostatic testing.

S.P No. | S.P No. | Applicant | Regulation(s) | Nature of special permit thereof
11579-M |  | Dyno Nobel, Inc., Salt Lake City, UT | 49 CFR 177.848(e)(2); 177.848(g)(3) | To modify the special permit to authorize an additional packaging configuration for the transportation of Division 1.4, 1.5, & Combustible materials in DOT Specification and non-DOT specification bulk packagings.
14401-N | PHMSA-25936 | Ultra Electronics, Braintree, MA | 49 CFR 173.56 | To authorize the transportation of thermal batteries installed in equipment as not subject to the Hazardous Materials Regulations. (modes 1, 3, 4)
14444-N | PHMSA-26548 | The Boeing Company, St. Louis, MO | 49 CFR 173.60 | To authorize the transportation in commerce of a Division 1.3J explosive in non-DOT specification packaging by motor vehicle. (mode 1)
14511-N | PHMSA-28185 | JACAM Chemicals, L.L.C., Sterling, KS | 49 CFR 173.202, 173.203, 173.241 and 173.242 | To authorize the manufacture, mark and sale of non-specification 60-gallon portable metal tanks designed and constructed in accordance with DOT Specification 57, with certain exceptions, for use in transporting Class 3 (flammable) and Class 8 (corrosive) hazardous materials by highway. (mode 1)
EE 14386-N |  | Environmental Protection Agency, Edison, NJ | 49 CFR parts 100-185 | To authorize the transportation in commerce of hazardous materials used to support the recovery relief efforts within the flood disaster areas as not subject to the Hazardous Materials Regulations.

[FR Doc. 07-5079 Filed 10-15-07; 8:45 am]

BILLING CODE 4909-60-M